DEPARTMENT OF THE INTERIOR

Bureau of Land Management

Notice of Availability of Draft Environmental Impact Statement for the Truckhaven Geothermal Leasing Area, California

AGENCY: Bureau of Land Management, Interior.

ACTION: Notice of availability.

SUMMARY: In accordance with the National Environmental Policy Act, the Bureau of Land Management (BLM) has prepared a Draft Environmental Impact Statement (EIS) for the Truckhaven Geothermal Leasing Area and by this notice is announcing the opening of the comment period. The main issues addressed in the Draft EIS are geothermal resource leasing, recreation, and special status species. The area is within the California Desert Conservation Area (CDCA) and the preferred alternative is in conformance with the land use plan for the area. There are no species listed for protection under the Endangered Species Act (ESA) that occur in the area; however, the listed desert pupfish occurs within two miles of the area and potential impacts to that species are addressed in the Draft EIS. BLM will consult with the Fish and Wildlife Service on the desert pupfish. The most common public use of the area currently is motorized recreation. Impacts to recreation are addressed in the Draft EIS. Mitigation measures to reduce or eliminate conflicts with these uses have been developed in coordination with the California Department of Parks and Recreation, a cooperating agency on the project. These measures will apply to both action alternatives.

DATES: BLM must receive written comments on the Draft EIS within 60 days following the date the Environmental Protection Agency publishes their Notice of Availability in the Federal Register. The BLM will announce future meetings and any other public involvement activities at least 15 days in advance through public notices, media news releases, and/or mailings.

ADDRESSES: You may submit comments by e-mail to jdalton@ca.blm.gov; fax to 951-697-5299; or mail to 22835 Calle San Juan de los Lagos, Moreno Valley, CA 92553.

FOR FURTHER INFORMATION CONTACT: John Dalton, 951-697-5311.

SUPPLEMENTARY INFORMATION: The Truckhaven Geothermal Leasing Area encompasses approximately 14,700 acres of Federal minerals in western Imperial County, California, north of State Route 78 and generally west and south of County Highway S-22. The area is part of the California Desert Conservation Area. The main issues addressed in the Draft EIS are geothermal resource leasing, recreation, and special status species. Three alternatives are analyzed in the Draft EIS: (1) No action, which would not lease any geothermal resources; (2) leasing only lands with existing noncompetitive lease applications; and (3) the proposed action, which would offer all BLM managed lands within this area for lease, subject to certain stipulations and mitigation measures to be applied at the development stage. Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety. Copies of the Draft EIS are available in the California Desert District Office at the above address; the El Centro Field Office, 1661 S. 4th St., El Centro, CA; and the California State Office, 2800 Cottage Way, Sacramento, CA.

Dated: January 10, 2007.
Thomas Zale,
Acting Field Manager.

[FR Doc. E7-2682 Filed 2-15-07; 8:45 am]

BILLING CODE 4310-40-P